DEPARTMENT OF COMMERCE

National Oceanic and Atmospheric Administration

[I.D. 060704D]

Proposed Information Collection; Comment Request; Western Alaska Community Development Quota Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 13, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Becky Carls, 907-586-7322 or becky.carls@noaa.gov.

SUPPLEMENTARY INFORMATION:

I. Abstract

The Western Alaska Community Development Quota (CDQ) Program allocates a portion of the quota for certain species in the Bering Sea and Aleutian Islands Management Area, in the Exclusive Economic Zone off the coast of Alaska to Western Alaska communities. So that the communities can start and support regionally-based commercial seafood or other fisheries-related businesses. NOAA Fisheries, Alaska Region needs to collect information to administer and manage the program. The information collected will be used to determine whether communities applying for allocations under the CDQ Program meet regulatory requirements, whether vessels and processors utilizing CDQ species meet operational requirements, and to monitor whether quotas have been harvested or exceeded.

II. Method of Collection

Community Development Plans (CDPs) are paper submissions. Substantial and technical amendments to the CDPs may be submitted by FAX or as paper submissions. The annual progress, budget, and budget reconciliation reports are paper submissions. CDQ Delivery Reports and CDQ Catch Reports are submitted by FAX or other electronic means. Observers are given their prior notice verbally.

III. Data

OMB Number: 0648-0269.

Form Number: None.

Type of Review: Regular submission.

Affected Public: Not-for-profit institutions and Business or other for-profits organizations.

Estimated Number of Respondents: 85.

Estimated Time Per Response: Proposed CDP, 520 hours; substantial amendment, 8 hours; technical amendment, 4 hours; annual progress report, 40 hours; annual budget report, 20 hr; annual budget reconciliation report, 8 hours; CDQ delivery report, 1 hour; CDQ catch report, 15 minutes; prior notice of offloading, 2 minutes; and prior notice of haul or set, 2 minutes.

Estimated Total Annual Burden Hours: 3,746.

Estimated Total Annual Cost to Public: $1,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 4, 2004.
Gwellnar Banks,
Management Analyst, Office of the Chief Information Officer.

[FR Doc. 04-13206 Filed 6-10-04; 8:45 am]

BILLING CODE 3510-22-S